DEPARTMENT OF THE INTERIOR

National Park Service

[NPS-SERO-RTCA-20896; PPMPSPD1T.Y00000] [PPSESERO10]

Cancellation of June 1, 2016, Meeting of the Wekiva River System Advisory Management Committee

AGENCY: National Park Service, Interior.

ACTION: Cancellation of meeting.

SUMMARY: Notice is hereby given in accordance with the Federal Advisory Committee Act, (5 U.S.C. Appendix 1-16), that the June 1, 2016, meeting of the Wekiva River System Advisory Management Committee previously announced in the Federal Register, Vol. 81, February 2, 2016, pp. 5481, is cancelled.

FOR FURTHER INFORMATION CONTACT: Jaime Doubek-Racine, Community Planner and Designated Federal Official, Rivers, Trails, and Conservation Assistance Program, Florida Field Office, Southeast Region, 5342 Clark Road, PMB #123, Sarasota, Florida 34233, or via telephone (941) 685-5912.

SUPPLEMENTARY INFORMATION: The Wekiva River System Advisory Management Committee was established by Public Law 106-299 to assist in the development of the comprehensive management plan for the Wekiva River System and provide advice to the Secretary of the Interior in carrying out management responsibilities of the Secretary under the Wild and Scenic Rivers Act (16 U.S.C. 1274).

Dated: May 3, 2016.
Alma Ripps,
Chief, Office of Policy.

[FR Doc. 2016-11377 Filed 5-12-16; 8:45 am]

BILLING CODE 4310-EE-P